ENVIRONMENTAL PROTECTION AGENCY

[FRL-7407-9]

Proposed Settlement Agreement

AGENCY: Environmental Protection Agency.

ACTION: Notice of proposed settlement agreement; request for public comment.

SUMMARY: In accordance with section 113(g) of the Clean Air Act, as amended, 42 U.S.C. 7413(g), notice is hereby given of a proposed settlement agreement in Utility Air Regulatory Group (UARG) v. Environmental Protection Agency (EPA), No. 02-1023 and consolidated cases (Nos. 02-1026, 02-1027, 02-1028, 02-1088)(D.C. Circuit). These consolidated cases concern a November 15, 2001 Federal Register notice entitled Recent Posting of Agency Regulatory Interpretations Pertaining to Applicability and Monitoring for Standards of Performance for New Stationary Sources and National Emission Standards for Hazardous Air Pollutants to the Applicability Index (ADI) Database System, (66 FR 57453) and a January 10, 2002 Federal Register notice entitled Recent Posting to the Applicability Determination Index (ADI) Database System of Agency Applicability Determinations, Alternative Monitoring Decisions, and Regulatory Interpretations Pertaining to Standards of Performance for New Stationary Sources and National Emission Standards for Hazardous Air Pollutants, (67 FR 1295).

DATES: Written comments on the proposed settlement agreement must be received by December 13, 2002.

ADDRESSES: Written comments should be sent to Diane E. McConkey, Air and Radiation Law Office (2344A), Office of General Counsel, U.S. Environmental Protection Agency, 1200 Pennsylvania Avenue, NW., Washington, DC 20004. A copy of the proposed settlement agreement is available from Phyllis J. Cochran, (202) 564-7606.

SUPPLEMENTARY INFORMATION: From time to time EPA publishes in the Federal Register notices of recent postings to the Applicability Determination Index Database System (ADI Posting Notices), similar to the two notices at issue in these petitions for review. The following entities filed petitions for review of one or both of the ADI Posting Notices described above: Utility Air Regulatory Group (UARG), January 11, 2002 (November 15, 2001 notice) and March 11, 2002 (January 10, 2002 notice); Clean Air Implementation Project (CAIP), January 14, 2002 (November 15, 2001 notice); American Chemistry Council (ACC), January 14, 2002 (November 15, 2001 notice); National Environmental Development Association's Clean Air Regulatory Project (NEDA/CARP), January 14, 2002 (November 15, 2001 and January 10, 2002 notices).

UARG, CAIP, ACC, NEDA/CARP, and EPA have now reached initial agreement on a settlement of the consolidated cases which could lead to the voluntary dismissal of the petitions for review. The settlement requires the EPA Administrator to include specific language in the first ADI Posting Notice signed after the settlement agreement is final and effective.

For a period of thirty (30) days following the date of publication of this notice, EPA will receive written comments relating to the proposed settlement agreement.

EPA or the Department of Justice may withdraw or withhold consent to the proposed settlement agreement if the comments disclose facts or considerations that indicate that such consent is inappropriate, improper, inadequate, or inconsistent with the requirements of the Act. Unless EPA or the Department of Justice determines, based on any comment which may be submitted, that consent to the settlement agreement should be withdrawn, the terms of the agreement will be affirmed.

Dated: November 4, 2002.
Lisa K. Friedman,
Associate General Counsel, Air and Radiation Law Office.

[FR Doc. 02-28843 Filed 11-12-02; 8:45 am]

BILLING CODE 6560-50-P